DEPARTMENT OF ENERGY

Federal Energy Regulatory Commission

Combined Notice of Filings

Take notice that the Commission has received the following Natural Gas Pipeline Rate and Refund Report filings:

Filings Instituting Proceedings

Docket Numbers: RP12-1067-000.

Applicants: Leaf River Energy Center LLC.

Description: Leaf River Energy Center LLC—Order No. 587-V Compliance Filing to be effective 12/1/2012.

Filed Date: 9/26/12.

Accession Number: 20120926-5100.

Comments Due: 5 p.m. ET 10/9/12.

Docket Numbers: RP12-1068-000.

Applicants: Tres Palacios Gas Storage LLC.

Description: Tres Palacios Gas Storage LLC—Order No. 587-V Compliance Filing to be effective 12/1/2012.

Filed Date: 9/26/12.

Accession Number: 20120926-5112.

Comments Due: 5 p.m. ET 10/9/12.

Docket Numbers: RP12-1069-000.

Applicants: Natural Gas Pipeline Company of America.

Description: Compliance Filing Pursuant to Order No. 587-V to be effective 12/1/2012.

Filed Date: 9/26/12.

Accession Number: 20120926-5151.

Comments Due: 5 p.m. ET 10/9/12.

Docket Numbers: RP12-1070-000.

Applicants: Midwestern Gas Transmission Company.

Description: Non-Conforming Agreement—Sequent to be effective 10/1/2012.

Filed Date: 9/26/12.

Accession Number: 20120926-5171.

Comments Due: 5 p.m. ET 10/9/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-1054-001.

Applicants: Cameron Interstate Pipeline, LLC.

Description: Cameron Interstate Pipeline Amended NAESB Version 2.0 Filing—Clone to be effective 12/1/2012.

Filed Date: 9/26/12.

Accession Number: 20120926-5054.

Comments Due: 5 p.m. ET 10/9/12.

Docket Numbers: RP12-1055-001.

Applicants: LA Storage, LLC.

Description: LA Storage Amended Compliance Filing Section 5.24 NAESB version 2.0 to be effective 12/1/2012.

Filed Date: 9/26/12.

Accession Number: 20120926-5059.

Comments Due: 5 p.m. ET 10/9/12.

Docket Numbers: RP12-1056-001.

Applicants: Mississippi Hub, LLC.

Description: Mississippi Hub Amended Section 6.24 NAESB Version 2.0 to be effective 12/1/2012.

Filed Date: 9/26/12.

Accession Number: 20120926-5058.

Comments Due: 5 p.m. ET 10/9/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 27, 2012.
Nathaniel J. Davis, Sr.,
Deputy Secretary.

[FR Doc. 2012-24604 Filed 10-4-12; 8:45 am]

BILLING CODE 6717-01-P